DEPARTMENT OF ENERGY

Federal Energy Regulatory Commission

[Project No. 4900-090]

Forestport Hydro, LLC; Notice of Application Ready for Environmental Analysis and Soliciting Comments, Recommendations, Terms and Conditions, and Prescriptions

Take notice that the following hydroelectric application has been filed with the Commission and is available for public inspection.

a. Type of Application: New License.

b. Project No.: 4900-090.

c. Date Filed: February 27, 2025.

d. Applicant: Forestport Hydro, LLC.

e. Name of Project: Forestport Hydroelectric Project.

f. Location: On the Black River in Oneida County, New York.

g. Filed Pursuant to: Federal Power Act, 16 U.S.C. 791(a)-825(r)

h. Applicant Contact: Antonio Zarella, Chief Operating Officer, Forestport Hydro, LLC, 230 Park Avenue, Suite 447, New York, NY 10169; telephone at (315) 247-0253; email at TZ@relevatepower.com.

i. FERC Contact: Erin Mocko, Project Coordinator, Great Lakes Branch, Division of Hydropower Licensing; telephone at (202) 502-8107; email at Erin.Mocko@ferc.gov.

j. Deadline for filing comments, recommendations, terms and conditions, and prescriptions: on or before 5:00 p.m. Eastern Time on January 20, 2026; reply comments are due on or before 5:00 p.m. Eastern Time on March 5, 2026.

The Commission strongly encourages electronic filing. Please file comments, recommendations, terms and conditions, and prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie Anne A. Reese, Secretary, Federal Energy Regulatory Commission, 12225 Wilkins Avenue, Rockville, Maryland 20852. All filings must clearly identify the project name and docket number on the first page: Forestport Hydroelectric Project (P-4900-090).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing, and is ready for environmental analysis at this time.

l. Project Description: The existing project consists of a 27-foot-high dam known as the Forestport Dam, that includes a 315-foot-long ogee spillway. The Forestport Dam creates an impoundment that has a surface area of 118 acres at a normal surface elevation of 1,126.55 feet National Geodetic Vertical Datum 1929 (NGVD29).

From the impoundment, water flows through gates and a canal to a forebay known as Alder Pond. Alder Pond has a surface area of 24 acres at a normal surface elevation of 1,124.6 feet NGVD29 and is formed by a 550-foot-long, 15-foot-high earth embankment known as Alder Pond Dam.

From Alder Pond, water flows through a power canal to an intake structure with trashracks with 1.75-inch clear bar spacing. From the intake structure, water flows through a penstock to a powerhouse that includes a 3.3-megawatt (MW) S-type Kaplan turbine-generator. From the powerhouse, water is released into a tailrace that discharges into the Black River.

The project generators are connected to the regional electric grid by generator lead lines and a 4.16/46-kV transformer.

Project recreation facilities include: (1) Alder Pond parking and access area, adjacent to the east side of the Alder Pond Dam; (2) Forestport impoundment parking and access area, adjacent to the Forestport Dam on the northwest shore of the Forestport impoundment; (3) an approximately 1,200 foot-long portage route from the Forestport access area to the Alder Pond access area; (4) an approximately 150-foot-long power canal portage route; and (5) a powerhouse parking and access area.

Forestport Hydro proposes to: (1) continue operating the project in a run-of-river mode and maintaining the surface elevation of the Forestport impoundment at 1,126.55 feet NGVD29; (2) continue to maintain the surface elevation of Alder Pond between 1,123.6 and 1,124.6 feet NGVD29; (3) continue to release a minimum flow of 140 cfs or inflow, whichever is less, over the Forestport Dam; (4) implement a Bat and Bald Eagle Management Plan and an Invasive Species Management Plan; (5) develop an operation compliance monitoring plan; (6) continue to maintain existing project recreation facilities and update directional and safety signage; (7) move the power canal portage take-out site upstream of the boat barrier; and (8) to protect cultural resources, consult with the New York State Historic Preservation Officer before beginning any land-clearing or land-disturbing activities.

m. A copy of the application can be viewed on the Commission's website at http://www.ferc.gov using the “eLibrary” link. Enter the docket number excluding the last three digits in the docket number field to access the document (P-4900). For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

For public inquiries and assistance with making filings such as interventions, comments, or requests for rehearing contact the Office of Public Participation at (202) 502-6595 or OPP@ferc.gov.

You may also register online at https://ferconline.ferc.gov/FERCOnline.aspx to be notified via email of new filings and issuances related to this or other pending projects. For assistance, contact FERC Online Support.

n. The license applicant must file on or before 5:00 p.m. Eastern Time on January 20, 2026: (1) a copy of the water quality certification; (2) a copy of the request for certification, including proof of the date on which the certifying agency received the request; or (3) evidence of waiver of water quality certification.

o. Procedural schedule: The application will be processed according to the following schedule. Revisions to the schedule will be made as appropriate.

Milestone | Target date
Filing of Comments, Recommendations, Terms, Conditions, and Prescriptions | January 2026.
Filing of Reply Comments | March 2026.

p. Final amendments to the application must be filed with the Commission on or before 5:00 p.m. Eastern Time on December 22, 2025.

Dated: November 20, 2025.
Debbie-Anne A. Reese,
Secretary.

[FR Doc. 2025-21051 Filed 11-24-25; 8:45 am]

BILLING CODE 6717-01-P